ENVIRONMENTAL PROTECTION AGENCY

40 CFR Parts 31 and 35

[FRL-6943-5]

RIN 2030 AA56

Environmental Program Grants for Tribes, Final Rule: Delay of Effective Date

AGENCY: Environmental Protection Agency (EPA).

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Environmental Program Grants for Tribes, published in the Federal Register on January 16, 2001, 66 FR 3781. This rule concerns several Environmental Protection Agency (EPA) grant programs for Indian Tribes and Intertribal Consortia. It creates a new Tribal-specific subpart which contains only the provisions for environmental program grants that apply to Tribes and addresses the Performance Partnership Grant program for Tribes.

DATES: The effective date of the Environmental Program Grants for Tribes regulation amending 40 CFR parts 31 and 35 published in the Federal Register on January 16, 2001, at 66 FR 3781, is delayed for 60 days, from February 15, 2001, to a new effective date of April 17, 2001.

FOR FURTHER INFORMATION CONTACT: W. Scott McMoran, Grants Administration Division (3903R), United States Environmental Protection Agency, 1200 Pennsylvania Ave., NW, Washington, DC 20460, Telephone: (202) 564-5376, McMoran.Scott@epa.gov.

SUPPLEMENTARY INFORMATION: The temporary 60-day delay in effective date is necessary to give Agency officials the opportunity for further review and consideration of new regulations, consistent with the Assistant to the President's memorandum of January 20, 2001. This action involves matters relating to grants and under 5 U.S.C. 553(a)(2) is thus exempt from the notice and comment requirements of the Administrative Procedure Act.

Dated: January 29, 2001.
David J. O'Connor,
Acting Assistant Administrator, Office of Administration and Resources Management.

[FR Doc. 01-3380 Filed 2-8-01; 8:45 am]

BILLING CODE 6560-50-U